FEDERAL MARITIME COMMISSION

Notice of Agreement Filed

The Commission hereby gives notice of the filing of the following agreement under the Shipping Act of 1984. Interested parties may submit comments, relevant information, or documents regarding the agreement to the Secretary by email at Secretary@fmc.gov, or by mail, Federal Maritime Commission, Washington, DC 20573. Comments will be most helpful to the Commission if received within 12 days of the date this notice appears in the Federal Register. Copies of agreement are available through the Commission's website (www.fmc.gov) or by contacting the Office of Agreements at (202)-523-5793 or tradeanalysis@fmc.gov.

Agreement No.: 011075-082.

Title: Central America Discussion Agreement.

Parties: Crowley Latin America Services, LLC: Dole Ocean Cargo Express, LLC; Great White Fleet Corp.; Great White Fleet Liner Service, Ltd.; King Ocean Services Limited, Inc.; Seaboard Marine Ltd.; and Tropical Shipping & Construction Co., Ltd.

Filing Party: Wayne Rohde, Esq.; Cozen O'Connor.

Synopsis: The amendment would delete or update obsolete language in Articles 6(b), 7 and 8. The Amendment would also update the address of party Dole Ocean Cargo Express, and restate the Agreement.

Proposed Effective Date: 11/26/2021.

Location: https://www2.fmc.gov/FMC.Agreements.Web/Public/AgreementHistory/1332.

Dated: October 15, 2021.
Rachel E. Dickon,
Secretary.

[FR Doc. 2021-22874 Filed 10-19-21; 8:45 am]

BILLING CODE 6730-02-P